DEPARTMENT OF LABOR

Employment and Training Administration

[TA-W-54,160]

Stanley Brothers, LLC, Lincoln, ME; Notice of Termination of Investigation

Pursuant to Section 221 of the Trade Act of 1974, as amended, an investigation was initiated on March 4, 2004, in response to a petition filed by a state agency representative on behalf of workers at Stanley Brothers, LLC, Lincoln, Maine.

The investigation revealed that the subject firm did not separate or threaten to separate a significant number or proportion of workers as required by Section 222 of the Trade Act of 1974. Significant number or proportion of the workers means that at least three workers in a firm with a workforce of fewer than 50 workers would have to be affected. Separations by the subject firm did not meet this threshold level; consequently the petition has been terminated.

Signed at Washington, DC, this 16th day of March, 2004.
Linda G. Poole,
Certifying Officer, Division of Trade Adjustment Assistance.

[FR Doc. 04-7582 Filed 4-2-04; 8:45 am]

BILLING CODE 4510-30-P